DEPARTMENT OF HEALTH AND HUMAN SERVICES

Administration for Children and Families

[Program Announcement No. 93612-005]

Administration for Native Americans Programs—Supplemental Funding for InterTribal Bison Cooperative/90NA7059

AGENCY: Administration for Native Americans (ANA), ACF, DHHS.

ACTION: Notice of Supplemental Funding Award.

SUMMARY: The Administration for Native Americans announces that a non-competitive grant award is being made to the InterTribal Bison Cooperative in the amount of $140,190 for Grant #90NA7059. The project period is September 1, 1998—August 341, 2000. This supplement will augment Year 2 funding to allow for the hiring of necessary staff as well as other supports to facilitate the completion of all original objectives projected under the grant. The InterTribal Bison Cooperative is funded to provide services to forty-two member tribes, including: Marketing and sales; land base and production capacity; research and development of herd management and a collaboration with tribal colleges in developing bison curricula.

FOR FURTHER INFORMATION CONTACT: Lois Hodge, Grants Officer, Department of Health and Human Services, Administration for Children and Families, Office of Grants Administration, 370 L'Enfant Promenade SW., Mail Stop HHH 326F, Washington, DC 20447, telephone: 202-401-2344 or Georgeline Sparks, Program Specialist, Administration for Native Americans, DHHS./ACF/ANA, 370 L'Enfant Promenade SW., Washington, DC 20447, telephone: 202-690-6420.

Authority: This award will be made pursuant to Native Americans Programs Act of 1974 as amended, 42 U.S.C. 2991 B. (CFDA 93.612).

Dated: June 5, 2000.
Gary Mounts,
Acting Commissioner, Administration for Native Americans.

[FR Doc. 00-14750 Filed 6-9-00; 8:45 am]

BILLING CODE 4184-01-M